NATIONAL AERONAUTICS AND SPACE ADMINISTRATION

[Notice 02-140]

Notice of Prospective Patent License

AGENCY: National Aeronautics and Space Administration.

ACTION: Notice of prospective patent license.

SUMMARY: NASA hereby gives notice that Ooltewah Manufacturing, Inc., of Ooltewah, TN, has applied for a partially exclusive patent license for the Communications Interface for Wireless Communications Headset, U.S. Serial No. 09/631,155, which is assigned to the United States of America as represented by the Administrator of the National Aeronautics and Space Administration. Written objections to the prospective grant of a license should be sent to Randall M. Heald, Assistant Chief Counsel/Patent Counsel, and John F. Kennedy Space Center.

DATES: Responses to this Notice must be received within 15 days from date of publication in the Federal Register.

FOR FURTHER INFORMATION CONTACT: Randall M. Heald, Assistant Chief Counsel/Patent Counsel, John F. Kennedy Space Center, Mail Code: CC-A, Kennedy Space Center, FL 32899, telephone (321) 867-7214.

Dated: November 4, 2002.
Robert M. Stephens,
Deputy General Counsel.

[FR Doc. 02-28568 Filed 11-8-02; 8:45 am]

BILLING CODE 7510-01-P